DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than November 7, 2019.

Interested persons are invited to submit written comments regarding the subject matter of the investigations to the Administrator, Office of Trade Adjustment Assistance, at the address shown below, not later than November 7, 2019.

The petitions filed in this case are available for inspection at the Office of the Administrator, Office of Trade Adjustment Assistance, Employment and Training Administration, U.S. Department of Labor, Room N-5428, 200 Constitution Avenue NW, Washington, DC 20210.

Signed at Washington, DC, this 9th day of October 2019.
Hope D. Kinglock,
Certifying Officer, Office of Trade Adjustment Assistance.

Appendix

98 TAA Petitions Instituted Between 9/1/19 and 9/30/19
TA-W | Subject firm (petitioners) | Location | Date of institution | Date of petition
95137 | ADP Technology Services, Inc. (State/One-Stop) | Owings Mills, MD | 09/03/19 | 08/30/19
95138 | Conduent Commercial Solutions LLC (State/One-Stop) | Tigard, OR | 09/03/19 | 08/30/19
95139 | Macom (State/One-Stop) | Ithaca, NY | 09/03/19 | 08/30/19
95140 | McWane, Inc. (State/One-Stop) | Oakland, CA | 09/03/19 | 08/29/19
95141 | Ryder Services Inc. (State/One-Stop) | Miami, FL | 09/03/19 | 08/27/19
95142 | TL Clothing, Inc. (State/One-Stop) | Los Angeles, CA | 09/03/19 | 08/30/19
95143 | AK Steel Corporation (Union) | Ashland, KY | 09/04/19 | 09/04/19
95144 | Tokio Marine Management, LLC (State/One-Stop) | Pasadena, CA | 09/04/19 | 09/03/19
95145 | Deutsche Bank (State/One-Stop) | New York, NY | 09/05/19 | 09/04/19
95146 | Optum Care, Inc. (State/One-Stop) | Farmington, CT | 09/05/19 | 09/04/19
95147 | State Street Bank & Trust Company (State/One-Stop) | Boston, MA | 09/05/19 | 09/04/19
95148 | Verso Luke LLC, NewPage Corporation (State/One-Stop) | Luke, MD | 09/05/19 | 09/04/19
95149 | AIG Employee Services, Inc. (State/One-Stop) | New York, NY | 09/06/19 | 09/05/19
95150 | Bridgestone Americas, Inc. (State/One-Stop) | Antioch, TN | 09/06/19 | 09/05/19
95151 | Briggs & Stratton Corporation (Workers) | Murray, KY | 09/06/19 | 08/20/19
95152 | DeVry University (Workers) | Chicago, IL | 09/06/19 | 09/03/19
95153 | Paradigm Solutions LLC (State/One-Stop) | St. Clair, PA | 09/06/19 | 09/05/19
95154 | Sigue Corporation (State/One-Stop) | Sylmar, CA | 09/06/19 | 09/06/19
95155 | Subtext LLC (State/One-Stop) | Portland, OR | 09/06/19 | 09/05/19
95156 | XP Power LLC (Workers) | Minden, NV | 09/06/19 | 08/28/19
95157 | Blue Shield of CA (State/One-Stop) | Lodi, CA | 09/09/19 | 09/04/19
95158 | Keystone Powered Metal Company (Union) | St. Marys, PA | 09/09/19 | 08/26/19
95159 | MMP Enterprises (State/One-Stop) | Sidney, NE | 09/09/19 | 09/06/19
95160 | Payless ShoeSource (6005 North Figueroa Street, Los Angeles) (State/One-Stop) | Los Angeles, CA | 09/09/19 | 09/06/19
95161 | Excelitas Technologies (State/One-Stop) | Fremont, CA | 09/10/19 | 09/09/19
95162 | Norfolk Southern (Union) | Altoona, PA | 09/10/19 | 09/09/19
95163 | Q-Edge Corporation; Foxconn HonHai Logistics California LLC (State/One-Stop) | Plainfield, IN | 09/10/19 | 09/09/19
95164 | State Street Corporation (State/One-Stop) | Boston, MA | 09/10/19 | 09/09/19
95165 | Triumph Composites Systems, Inc. (Union) | Spokane, WA | 09/10/19 | 09/05/19
95166 | United Parcel Service General Service Company (State/One-Stop) | Coppell, TX | 09/10/19 | 09/09/19
95167 | West Corporation (State/One-Stop) | Manassas, VA | 09/10/19 | 09/09/19
95168 | Bayer U.S. LLC (State/One-Stop) | Mishawaka, IN | 09/11/19 | 09/10/19
95169 | Corn Plus (State/One-Stop) | Winnebago, MN | 09/11/19 | 09/10/19
95170 | CreativeDrive (State/One-Stop) | Portland, OR | 09/11/19 | 09/10/19
95171 | Forever 21 Inc. (State/One-Stop) | Los Angeles, CA | 09/11/19 | 09/10/19
95172 | Sykes Enterprises (State/One-Stop) | Vansant, VA | 09/11/19 | 09/09/19
95173 | Virtual Business Office Associates (VBOA) (Workers) | Columbia, SC | 09/11/19 | 09/05/19
95174 | XPO Logistics (State/One-Stop) | Montgomery, IL | 09/11/19 | 09/10/19
95175 | Annan Marketing (State/One-Stop) | Overland Park, KS | 09/12/19 | 09/11/19
95176 | General Motors Fairfax Assembly & Stamping (State/One-Stop) | Kansas City, KS | 09/12/19 | 09/11/19
95177 | Signify (Company) | Tupelo, MS | 09/12/19 | 09/11/19
95178 | Honeywell Safety Products (State/One-Stop) | Smithfield, RI | 09/13/19 | 09/12/19
95179 | Innocor Foam Technologies (State/One-Stop) | Lebanon, MO | 09/13/19 | 09/12/19
95180 | Johnson Control (State/One-Stop) | Westminster, MA | 09/13/19 | 09/12/19
95181 | Omega Apparel Inc. (State/One-Stop) | Smithville, TN | 09/13/19 | 09/12/19
95182 | Waitr Holdings Inc. (State/One-Stop) | Lake Charles, LA | 09/13/19 | 09/12/19
95183 | Bausch Health (State/One-Stop) | Irvine, CA | 09/16/19 | 09/13/19
95184 | Del Monte Foods Inc. (State/One-Stop) | Mendota, IL | 09/16/19 | 09/12/19
95185 | Stone Suppliers (State/One-Stop) | Mundelein, IL | 09/16/19 | 09/11/19
95186 | Westech Building Products (USA) (State/One-Stop) | Mt. Vernon, IN | 09/16/19 | 09/16/19
95187 | Apricot Power Inc. (State/One-Stop) | Lakeport, CA | 09/17/19 | 09/16/19
95188 | State Street Corporation (Company) | North Quincy, MA | 09/17/19 | 09/16/19
95189 | TI Fluid Systems (Company) | Greeneville, TN | 09/17/19 | 09/16/19
95190 | Eagle Mine, LLC.—Exploration Department (Company) | Negaunee, MI | 09/18/19 | 09/17/19
95191 | MTBC-Med, Incorporated (State/One-Stop) | Somerset, NJ | 09/18/19 | 08/30/19
95192 | Nestle USA (State/One-Stop) | Glendale Heights, IL | 09/18/19 | 09/16/19
95193 | Manac Trailers USA, Inc. (State/One-Stop) | Oran, MO | 09/19/19 | 09/18/19
95194 | Coorstek (State/One-Stop) | Hillsboro, OR | 09/20/19 | 09/19/19
95195 | Trelleborg Coated Systems (Company) | Morristown, TN | 09/20/19 | 09/19/19
95196 | West Corporation (State/One-Stop) | West Point, GA | 09/20/19 | 09/19/19
95197 | Rentrak (State/One-Stop) | Portland, OR & Reston, VA, OR | 09/23/19 | 09/20/19
95198 | IBM Corporation (State/One-Stop) | Beaverton, OR | 09/23/19 | 09/20/19
95199 | Kennametal, Inc. (Company) | Irwin, PA | 09/23/19 | 09/23/19
95200 | Kopin Corporation (State/One-Stop) | Scotts Valley, CA | 09/23/19 | 09/20/19
95201 | US Steel—Great Lakes Works (State/One-Stop) | Ecorse, MI | 09/23/19 | 09/20/19
95202 | Bimbo Bakeries (State/One-Stop) | South Sioux City, NE | 09/24/19 | 09/23/19
95203 | Bose Corporation (State/One-Stop) | Stow, MA | 09/24/19 | 09/23/19
95204 | Concentrix CVG Corporation (State/One-Stop) | Longview, TX | 09/24/19 | 09/23/19
95205 | Draka Cableteq USA Inc. (State/One-Stop) | Hutchinson, KS | 09/24/19 | 09/23/19
95206 | Honeywell Safety Products (Workers) | Franklin, PA | 09/24/19 | 09/23/19
95207 | IntraPac International LLC (Union) | Plattsburgh, NY | 09/24/19 | 09/23/19
95208 | Norfolk Southern (Union) | Roanoke, VA | 09/24/19 | 09/23/19
95209 | Owens-Brockway a Owens-Illinois Company (State/One-Stop) | Waco, TX | 09/24/19 | 09/23/19
95210 | Quad Graphics (State/One-Stop) | Shakopee, MN | 09/24/19 | 09/23/19
95211 | SCSI (State/One-Stop) | Montgomery, IL | 09/24/19 | 09/17/19
95212 | Fiber Innovators International (Company) | Grover, NC | 09/25/19 | 09/23/19
95213 | Medtronic Coronary & Structural Heart (State/One-Stop) | Santa Rosa, CA | 09/25/19 | 09/20/19
95214 | Roseburg Forest Products (Union) | Dillard, OR | 09/25/19 | 09/24/19
95215 | Teck Washington Incorporated (State/One-Stop) | Metaline Falls, WA | 09/25/19 | 09/19/19
95216 | TTEC Healthcare Solutions (State/One-Stop) | Temple, TX | 09/25/19 | 09/24/19
95217 | U.S. Bank (Company) | Owensboro, KY | 09/25/19 | 09/23/19
95218 | Whitesell (Company) | Muscle Shoals, AL | 09/25/19 | 09/12/19
95219 | WS Packaging (State/One-Stop) | Rochester, NY | 09/25/19 | 09/24/19
95220 | Harman International (Company) | Farmington Hills, MI | 09/26/19 | 09/25/19
95221 | Manitou Americas (State/One-Stop) | Madison, SD | 09/26/19 | 09/25/19
95222 | Ortho Clinical Diagnostics (Workers) | Raritan, NJ | 09/26/19 | 09/24/19
95223 | Pattison Sand Company (State/One-Stop) | Clayton, IA | 09/26/19 | 09/25/19
95224 | U.S. Bank (State/One-Stop) | Irving, TX | 09/26/19 | 09/25/19
95225 | Conifex USA Inc. (State/One-Stop) | El Dorado, AR | 09/27/19 | 09/26/19
95226 | ERMCO Inc. (State/One-Stop) | Little Rock, AR | 09/27/19 | 09/26/19
95227 | Franklin Electric Company Inc. (State/One-Stop) | Little Rock, AR | 09/27/19 | 09/26/19
95228 | Meryl Diamond Limited (Workers) | New York, NY | 09/27/19 | 09/25/19
95229 | Starmark Cabinetry (State/One-Stop) | Sioux Falls, SD | 09/27/19 | 09/26/19
95230 | Harman International Industries, Inc. (State/One-Stop) | Novi, MI | 09/30/19 | 09/30/19
95231 | Seaworld (State/One-Stop) | Orlando, FL | 09/30/19 | 09/27/19
95232 | Wells Fargo (State/One-Stop) | Bloomington, MN | 09/30/19 | 09/27/19
95233 | Wells Fargo (State/One-Stop) | Shoreview, MN | 09/30/19 | 09/27/19
95234 | Xerox Corporation (Workers) | Rosemont, IL | 09/30/19 | 09/27/19

[FR Doc. 2019-23455 Filed 10-25-19; 8:45 am]

BILLING CODE P